DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 79 FR 69499 dated November 21, 2014).

This notice reflects organizational changes in the Health Resources and Services Administration (HRSA), Office of Rural Health Policy. Specifically, this notice: (1) Changes the name from the Office of Rural Health Policy to the Federal Office of Rural Health Policy; (2) establishes the Policy Research Division (RH5); (2) establishes the Administrative Operations Division (RH6); and (3) abolishes the Border Health Division.

Chapter RH—Federal Office of Rural Health Policy

Section RH-00, Mission

To improve access to quality health care in rural communities.

Section RH-10, Organization

Delete the organization for the Office of Rural Health Policy (RH) in its entirety and replace with the following:

The Federal Office of Rural Health Policy (RH) is headed by the Associate Administrator, who reports directly to the Administrator, Health Resources and Services Administration. The Federal Office of Rural Health Policy includes the following components:

(1) Office of the Associate Administrator (RH);

(2) Hospital State Division (RH1);

(3) Community-Based Division (RH2);

(4) Office for the Advancement of Telehealth (RH4);

(5) Policy Research Division (RH5); and

(6) Administrative Operations Division (RH6).

Section RH-20, Functions

(1) Establish the Policy Research Division (RH5) and transfer the policy research functions from the Office of the Associate Administrator (RH) to the newly established Policy Research Division (RH5); (2) establish the Administrative Operations Division (RH6) and transfer the administrative operations functions from the Office of the Associate Administrator (RH) to the newly established Administrative Operations Division (RH6); (3) transfer the functions of the Border Health Division (RH3) to the Office of the Associate Administrator (RH); (4) abolish the Border Health Division; and (5) update the functional statement for the Office of Associate Administrator (RH).

Office of the Associate Administrator (RH)

The Federal Office of Rural Health Policy (FORHP) is responsible for the overall leadership and management of the office. FORHP serves as a focal point within the Department of Health and Human Services (HHS) for rural health-related issues and as a principal source of advice to the Secretary for coordinating efforts to strengthen and improve the delivery of health services to populations in the nation's rural areas. FORHP provides leadership within HHS and with stakeholders in providing information and counsel related to access to, and financing and quality of, health care to rural populations. Specifically, the Office of the Associate Administrator: (1) Provides staff support to the National Advisory Committee on Rural Health and Human Services; (2) stimulates and coordinates interaction on rural health activities and programs in the Agency, Department and with other federal agencies; (3) establishes and maintains a resource center for the collection and dissemination of the latest information and research findings related to the delivery of health services in rural areas; (4) ensures successful dissemination of appropriate information technology advances, such as electronic health records systems; (5) monitors the health information technology policy and activities of other HHS components for useful application in rural areas; (6) monitors HRSA's border health activities and investments to promote collaboration and improve health care access to those living along the U.S.-Mexico border; (7) provides overall direction and leadership over the management of nationwide community-based rural health grants programs; (8) provides overall direction and leadership over the management of a program of state grants which support collaboration within state offices of rural health; (9) provides overall direction and leadership over the management of programs to advance the use of telehealth and coordination health information technology; and (10) provides overall direction and leadership over the office's administrative and management functions.

Policy Research Division (RH5)

The Policy Research Division serves as the focal point within FORHP to support health policy and research focused on rural populations. Specifically, the Policy Research Division: (1) Supports rural health research centers and keeps informed of research and demonstration projects funded by states and foundations in the field of rural health care delivery; (2) establishes and maintains a resource center for the collection and dissemination of the latest information and research findings related to the delivery of health services in rural areas; (3) maintains data and analytic capabilities to support office functions; (4) advises the Agency, Administrator, and Department on the effects of current policies and proposed statutory, regulatory, administrative, and budgetary changes in the programs established under titles XVIII and XIX of the Social Security Act, on the financial viability of small rural hospitals and the ability of rural areas to attract and retain physicians and other health professionals; and (5) monitors rural hospital impact analyses developed by the Centers for Medicare and Medicaid Services whenever proposed regulations might have a significant impact on a substantial number of small rural hospitals.

Administrative Operations Division (RH6)

The Administrative Operations Division collaborates with FORHP leadership to plan, coordinate, and direct FORHP-wide administrative management activities. Specifically, the Administrative Operations Division: (1) Develops, executes, and monitors FORHP's budget; (2) provides guidance and coordination of human resources; (3) plans, coordinates, and manages FORHP's grant activities; (4) plans, coordinates, and manages FORHP's procurement activities; (5) coordinates the review and clearance of correspondence and official documents to and from FORHP; and (6) provides additional management support services including, but not limited to, timekeeping, supplies, equipment, space, records, and training.

Section RH-30, Delegations of Authority

All delegations of authority and re-delegations of authority made to HRSA officials that were in effect immediately prior to this reorganization, and that are consistent with this reorganization, shall continue in effect pending further re-delegation.

This reorganization is effective upon date of signature.

Dated: December 11, 2014.
Mary K. Wakefield,
Administrator.

[FR Doc. 2014-29576 Filed 12-16-14; 8:45 am]

BILLING CODE 4165-15-P